DEPARTMENT OF ENERGY

Federal Energy Regulatory Commission

Combined Notice of Filings #2

Take notice that the Commission received the following electric rate filings:

Docket Numbers: ER17-111-001.

Applicants: Black Hills Power, Inc.

Description: Compliance filing: Amendment to Order Nos. 827 and 828 Consolidated Compliance Filing to be effective 10/14/2016.

Filed Date: 12/15/16.

Accession Number: 20161215-5193.

Comments Due: 5 p.m. ET 1/5/17.

Docket Numbers: ER17-478-001.

Applicants: Mankato Energy Center, LLC.

Description: Tariff Amendment: Mankato Additional Tariff Amendment Filing to be effective 12/16/2016.

Filed Date: 12/15/16.

Accession Number: 20161215-5109.

Comments Due: 5 p.m. ET 1/5/17.

Docket Numbers: ER17-551-000.

Applicants: San Diego Gas & Electric Company.

Description: § 205(d) Rate Filing: 2017 SDGE TACBAA update to Transmission Owner Tariff Filing to be effective 1/1/2017.

Filed Date: 12/15/16.

Accession Number: 20161215-5114.

Comments Due: 5 p.m. ET 1/5/17.

Docket Numbers: ER17-552-000.

Applicants: Arizona Public Service Company.

Description: § 205(d) Rate Filing: Rate Schedule No. 217, Exhibit B.FLG to be effective 2/14/2017.

Filed Date: 12/15/16.

Accession Number: 20161215-5115.

Comments Due: 5 p.m. ET 1/5/17.

Docket Numbers: ER17-553-000.

Applicants: Niles Valley Energy LLC.

Description: Baseline eTariff Filing: Niles Valley Energy LLC MBR Application to be effective 2/14/2017.

Filed Date: 12/15/16.

Accession Number: 20161215-5121.

Comments Due: 5 p.m. ET 1/5/17.

Docket Numbers: ER17-554-000.

Applicants: Wolf Run Energy LLC.

Description: Baseline eTariff Filing: Wolf Run Energy LLC MBR Application to be effective 2/14/2017.

Filed Date: 12/15/16.

Accession Number: 20161215-5122.

Comments Due: 5 p.m. ET 1/5/17.

Docket Numbers: ER17-555-000.

Applicants: Interstate Power and Light Company.

Description: Tariff Cancellation: Cancellation IPL-SMEC Agr I to be effective 12/4/2016.

Filed Date: 12/15/16.

Accession Number: 20161215-5231.

Comments Due: 5 p.m. ET 1/5/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 15, 2016.
Nathaniel J. Davis, Sr.,
Deputy Secretary.

[FR Doc. 2016-30973 Filed 12-22-16; 8:45 am]

BILLING CODE 6717-01-P